NATIONAL SCIENCE FOUNDATION

Notice of Permit Applications Received Under the Antarctic Conservation Act of 1978 (Pub. L. 95-541)

AGENCY: National Science Foundation.

ACTION: Notice of Permit Applications Received under the Antarctic Conservation Act of 1978, Public Law 95-541.

SUMMARY: The National Science Foundation (NSF) is required to publish a notice of permit applications received to conduct activities regulated under the Antarctic Conservation Act of 1978. NSF has published regulations under the Antarctic Conservation Act at Title 45 Part 670 of the Code of Federal Regulations. This is the required notice of permit applications received.

DATES: Interested parties are invited to submit written data, comments, or views with respect to this permit application by July 3, 2013. This application may be inspected by interested parties at the Permit Office, address below.

ADDRESSES: Comments should be addressed to Permit Office, Room 755, Office of Polar Programs, National Science Foundation, 4201 Wilson Boulevard, Arlington, Virginia 22230.

FOR FURTHER INFORMATION CONTACT: Polly A. Penhale at the above address or (703) 292-7420.

SUPPLEMENTARY INFORMATION: The National Science Foundation, as directed by the Antarctic Conservation Act of 1978 (Pub. L. 95-541), as amended by the Antarctic Science, Tourism and Conservation Act of 1996, has developed regulations for the establishment of a permit system for various activities in Antarctica and designation of certain animals and certain geographic areas a requiring special protection. The regulations establish such a permit system to designate Antarctic Specially Protected Areas.

The applications received are as follows:

1. Applicant

Jennifer Burns, Department of Biological Sciences, CPISB 202C, University of Alaska, Anchorage, AK 99508.

Permit Application: 2014-003.

Activity for Which Permit Is Requested

Take and Enter Antarctic Specially Protected Areas (ASPA's). The applicant plans to study the interactions between reproduction, molt, and condition is particularly important in Weddell seals, as molt coincides with the end of embryonic diapause and the start of active gestation. The research will address three fundamental questions: (1) What intrinsic and/or extrinsic factors determine molt phenology in Weddell seals; (2) How does late season condition and molt status influence current pregnancy and future parturition rates; and (3) To what extent might changes in food availability during the austral summer impact molt timing and future reproductive success. To achieve project goals, 24 adult females of known-age and known-reproductive history will receive a full health assessment (mass, morphometrics, blood and tissue samples) and be outfitted with VHF (to facilitate relocation) and TDR/GPS tags (to track mid-summer behavior). Should any of these females be accompanied by nursing pups, the pups will be flipper tagged and weighed. In addition to handling activities, a range-wide population survey will be conducted. The applicant plans to enter ASPA 121-Cape Royds, ASPA 155-Cape Evans, and/or ASPA 157-Backdoor Bay, Cape Royds should any seals be relocated in the area. The applicant plans to salvage tissue samples from dead seals if found.

Location

Erebus Bay, McMurdo Sound Sea Ice, ASPA 121-Cape Royds, ASPA 155-Cape Evans, and/or ASPA 157-Backdoor Bay, Cape Royds.

Dates

November 1, 2013 to February 28, 2017.

Nadene G. Kennedy,
Permit Officer, Office of Polar Programs.

[FR Doc. 2013-12959 Filed 5-31-13; 8:45 am]

BILLING CODE 7555-01-P